DEPARTMENT OF EDUCATION

RIN 1820 ZA37

National Institute on Disability and Rehabilitation Research; Grants and Cooperative Agreements; Availability, etc: Special Education and Rehabilitative Services—Rehabilitation Research and Training Centers Program

AGENCY: Office of Special Education and Rehabilitative Services, Department of Education.

ACTION: Notice of final priorities (NFP) for Health and Function Outcomes for Individuals with Disabilities.

SUMMARY: The Assistant Secretary for Special Education and Rehabilitative Services announces final priorities under the Rehabilitation Research and Training Centers (RRTC) Program for the National Institute on Disability and Rehabilitation Research (NIDRR). The Assistant Secretary may use one or more of these priorities for competitions in fiscal year (FY) 2004 and later years. We take this action to focus research attention on areas of national need. We intend these priorities to improve health and function outcomes for individuals with disabilities.

DATES: Effective Date: These final priorities are effective July 9, 2004.

FOR FURTHER INFORMATION CONTACT: Donna Nangle, U.S. Department of Education, 550 12th Street, SW., room 6046, Potomac Center Plaza, Washington, DC 20202. Telephone: (202) 245-7462 or via Internet: donna.nangle@ed.gov.

If you use a telecommunications device for the deaf (TDD), you may call the TDD number at (202) 245-7317.

Individuals with disabilities may obtain this document in an alternative format (e.g., Braille, large print, audiotape, or computer diskette) on request to the contact person listed under FOR FURTHER INFORMATION CONTACT.

SUPPLEMENTARY INFORMATION:

Rehabilitation Research and Training Centers

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of Rehabilitation Research and Training Centers

RRTCs must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers for national excellence in rehabilitation research for individuals with disabilities, their representatives, providers, and other interested parties.

The Department is particularly interested in ensuring that the expenditure of public funds is justified by the execution of intended activities and the advancement of knowledge and, thus, has built this accountability into the selection criteria. Not later than three years after the establishment of any RRTC, NIDRR will conduct one or more reviews of the activities and achievements of the RRTC. In accordance with the provisions of 34 CFR 75.253(a), continued funding depends at all times on satisfactory performance and accomplishment of approved grant objectives.

We published a notice of proposed priorities (NPP) for this program in the Federal Register on March 25, 2004 (69 FR 15305). This Notice of Final Priorities (NFP) contains no significant differences from the NPP.

Analysis of Comments and Changes

In response to our invitation in the NPP, we received six comments. An analysis of the comments and any changes in the priorities since publication of the NPP is in the Appendix at the end of this notice.

Note: This notice does not solicit applications. In any year in which we choose to use one or more of these priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

These final priorities are in concert with NIDRR's 1999-2003 Long-Range Plan (Plan). The Plan is comprehensive and integrates many issues relating to disability and rehabilitation research topics. While applicants will find many sections throughout the Plan that support potential research to be conducted under these final priorities, a specific reference is included for each priority presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priorities

The Assistant Secretary announces three priorities for the funding of RRTCs that will focus on improved outcomes measures, health status, and rehabilitation of persons with traumatic brain injury to facilitate the ability of individuals with disabilities to live in the community. Applicants must select and focus research on one of the following priorities: Priority 1—Measuring Rehabilitation Outcomes and Effectiveness; Priority 2—Health and Wellness in Long-Term Disability; or Priority 3—Traumatic Brain Injury (TBI) Interventions. Under each of these priorities, the RRTC must:

(1) Contribute substantially to the scientific knowledge-base relevant to its respective subject area;

(2) Research, develop, and evaluate interventions or tools to assist with outcomes for its focus area;

(3) Develop, implement, and evaluate a comprehensive plan for training critical stakeholders (e.g., consumers/family members, practitioners, service providers, researchers, and policymakers);

(4) Provide technical assistance, as appropriate, to critical stakeholders (e.g., consumers/family members, practitioners, and service providers) to facilitate utilization of research findings in its respective area of research; and

(5) Develop a systematic plan for focused dissemination of informational materials based on knowledge gained from the RRTC's research activities, and disseminate the materials to persons with disabilities, their representatives, service providers, and other interested parties.

In addition to these activities, under each of the priorities, the RRTC must:

• Conduct a state-of-the-science conference on its respective area of research in the third year of the grant cycle and publish a comprehensive report on the final outcomes of the conference in the fourth year of the grant cycle. This conference must include materials from experts internal and external to the RRTC;

• Coordinate on research projects of mutual interest with relevant NIDRR-funded projects as identified through consultation with the NIDRR project officer;

• Involve individuals with disabilities in planning and implementing its research, training, and dissemination activities, and in evaluating the RRTC;

• Demonstrate in its application how it will address, in whole or in part, the needs of individuals with disabilities from minority backgrounds; and

• Articulate goals, objectives, and expected outcomes for the proposed research activities. It is critical that proposals describe expected public benefits, especially benefits for individuals with disabilities, and propose projects that are designed to demonstrate outcomes that are consistent with the proposed goals. Applicants must include information describing how they will measure outcomes, including the indicators that will represent the end-result, the mechanisms that will be used to evaluate outcomes associated with specific problems or issues, and how the proposed activities will support new intervention approaches and strategies, including a discussion of measures of effectiveness.

Priorities

An applicant under this program must focus research on one of the following priorities:

Priority 1—Measuring Rehabilitation Outcomes and Effectiveness

This center must conduct research to advance the field of medical rehabilitation by increasing the utility, efficiency, and relevance of its outcomes measurement tools and processes. The research funded under this priority must be designed to contribute to the following outcomes:

• Improved measurement tools that can be used to track the outcomes of individuals across a wide variety of rehabilitation settings.

• Improved measurement tools that incorporate consumer perspectives to assess long-term community integration outcomes within a comprehensive model for evaluating rehabilitation effectiveness, such as the International Classification of Functioning, Disability, and Health (ICF).

• Increased efficiency of rehabilitation outcomes data collection, through the application of strategies such as item response theory and computer adaptive testing techniques.

• Identification of effective methods for translating outcomes data into information that can be utilized to inform decisions made by key rehabilitation stakeholders, including consumers, payers, provider organizations, and clinicians.

The reference for this topic can be found in the Plan, chapter 4, Health and Function: Research on Rehabilitation Outcomes, pp. 49-50.

Priority 2—Health and Wellness in Long-Term Disability

This center must conduct research that will help to overcome the health disparities of individuals with disabilities compared to individuals without disabilities. The research funded under this priority must be designed to contribute to the following outcomes:

• Identification of strategies to overcome barriers that impede access to routine healthcare for individuals with disabilities.

• Identification of interventions in areas such as exercise, nutrition, pain management, or complementary and alternative therapies, that promote health and wellness and minimize the occurrence of secondary conditions for persons with disabilities.

• Improved health status measurement tool(s) to assess health and well-being of individuals with disabilities regardless of functional ability.

The reference for this topic can be found in the Plan, chapter 4, Health and Function: Health Care at the Individual Level; Health Care at the Systems Level, pp. 42-43.

Priority 3—Traumatic Brain Injury (TBI) Interventions

This center must conduct research to improve long-term outcomes for persons with TBI. The research funded under this priority must be designed to contribute to one of the following outcomes:

• Identification of interventions that demonstrate efficacy, or effectiveness, or both, in promoting improved rehabilitation outcomes for adults with TBI; or

• Identification of interventions that demonstrate either efficacy, or effectiveness, or both, in promoting improved rehabilitation outcomes for children (under age 16) with TBI.

In addition, for either adults or children, the research funded under this priority must be designed to develop and evaluate improved techniques for assessing outcomes associated with TBI.

The reference for this topic can be found in the Plan, chapter 4, Health and Function: Research on Trauma Rehabilitation, p. 47.

Executive Order 12866

This notice of final priorities has been reviewed in accordance with Executive Order 12866. Under the terms of the order, we have assessed the potential costs and benefits of this regulatory action.

The potential costs associated with the notice of final priorities are those resulting from statutory requirements and those we have determined as necessary for administering this program effectively and efficiently.

In assessing the potential costs and benefits—both quantitative and qualitative—of this notice of final priorities, we have determined that the benefits of the final priorities justify the costs.

Summary of potential costs and benefits: The potential costs associated with these final priorities are minimal while the benefits are significant. Grantees may anticipate costs associated with completing the application process in terms of staff time, copying, and mailing or delivery. The use of e-Application technology reduces mailing and copying costs significantly.

The benefits of the RRTC Program have been well established over the years in that similar projects have been completed successfully. These final priorities will generate new knowledge through research, dissemination, utilization, training, and technical assistance projects.

The benefit of these final priorities and project requirements will be the establishment of new RRTCs that generate, disseminate, and promote the use of new information to improve options and participation in the community for individuals with disabilities.

Applicable Program Regulations: 34 CFR part 350.

Electronic Access to This Document

You may review this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

(Catalog of Federal Domestic Assistance Number: 84.133B, Rehabilitation Research and Training Center Program)
Program Authority: 29 U.S.C. 762(g) and 764(b)(2).
Dated: June 7, 2004.
Troy R. Justesen,
Acting Deputy Assistant Secretary for Special Education and Rehabilitative Services.

Apppendix—Analysis of Comments and Changes

We discuss substantive issues under the title of the priority to which they pertain. Generally, we do not address technical and other minor changes and suggested changes we are not authorized to make under the applicable statutory authority.

General

Comment: One commenter praised NIDRR for requiring that RRTCs articulate goals, objectives, and expected outcomes for the proposed research activities, but expressed concern about the lack of review criteria by which such activities can be reviewed objectively. The commenter suggested that the criteria be added or that these outcomes be treated as a competitive preference priority.

Discussion: The Department's regulations in CFR 350.54 contain objective criteria by which applicants' articulation of goals, objectives, and expected outcomes are reviewed through our peer review process.

Changes: None.

Measuring Rehabilitation Outcomes and Effectiveness

Comment: One commenter suggested that requiring applicants to address all four outcomes specified for this priority will result in pedestrian projects and suggested that applicants be allowed to chose a subset, perhaps no more than two of these outcomes, on which to concentrate.

Discussion: NIDRR thinks that the first three outcomes listed under the priority are interrelated and that it would diminish the usefulness of the proposed center to allow applicants to disaggregate the topics. The fourth outcome addresses the utilization of outcomes data. NIDRR is committed to ensuring utilization of research findings as documented in its Long Range Plan. Outcomes data can influence service delivery decisions, service quality, and payment. For this reason, NIDRR wants to conduct research that facilitates use of outcomes findings by key stakeholders.

Changes: None.

Health and Wellness in Long-Term Disability

Comment: One commenter asked whether NIDRR considers mental health disorders as long-term primary disabling conditions.

Discussion: NIDRR does consider mental health disorders as long-term primary disabling conditions.

Changes: None.

Comment: One commenter requested that NIDRR define long-term disabilities for the purpose of a competition under this program.

Discussion: Long-term disability has established definitions in a number of different contexts. Applicants are free to choose a definition, provided they give justification for the definition used. Applicants may specify uses of the term and applicable reference for the purposes of their proposal. The peer review process will evaluate merits of the proposals.

Changes: None.

Traumatic Brain Injury (TBI) Interventions

Comment: One commenter requested that the TBI interventions priority encourage the use of the ICF to assess functional outcomes in treatment of TBI.

Discussion: NIDRR agrees that the ICF is an important framework for use in assessing functional outcomes in treatment of TBI; however, NIDRR has no basis for requiring that all applicants use this framework. Nothing in the priority precludes an applicant from suggesting such an approach. The peer review process will evaluate the merits of the applicant's proposal.

Changes: None.

Comment: One commenter suggested that the TBI intervention priority should require applicants to identify or evaluate methodological issues that affect the ability to conduct research and to demonstrate the efficacy or effectiveness, or both, of this research.

Discussion: NIDRR agrees that better understanding of methodological issues that affect the ability to conduct research is important; however, NIDRR has no basis for requiring that all applicants address this issue. Nothing in the priority precludes an applicant from incorporating such study in the proposed research approach. The peer review process will evaluate the merits of the applicant's proposal.

Changes: None.

[FR Doc. 04-13238 Filed 6-9-04; 8:45 am]

BILLING CODE 4000-01-P